DEPARTMENT OF AGRICULTURE

Agricultural Marketing Service

[Doc. No. AMS-LP-24-0072]

United States Classes, Standards, and Grades for Poultry

AGENCY: Agricultural Marketing Service, USDA.

ACTION: Notice, request for comments.

SUMMARY: The U.S. Department of Agriculture's (USDA) Agricultural Marketing Service (AMS) is seeking public comment on revisions to the United States Classes, Standards, and Grades for Poultry (the Poultry Standards). The last minor revision to the Poultry Standards occurred in 2018, but the last substantial revision prior to that occurred in 1998. Since then, poultry production and quality assessment methods have changed significantly, as have consumer preferences.

DATES: Submit comments on or before March 17, 2025.

ADDRESSES: Interested persons are invited to submit comments electronically at https://www.regulations.gov. Written comments should be sent to: Poultry Standards Revisions, Standards and Specifications Division; Livestock and Poultry Program, AMS, USDA; 1400 Independence Avenue SW, STOP 0258; Washington, DC 20250-0258. Comments may also be emailed to AMSPoultryResources@usda.gov. All comments should reference document number AMS-LP-24-0072, the date of submission, and the page number of this issue of the Federal Register. All comments received will be posted without change, including any personal information provided, and will be made available for public inspection at the above physical address during regular business hours.

FOR FURTHER INFORMATION CONTACT: Samantha Rhoderick, National Poultry Supervisor, Livestock and Poultry Program, phone (202) 603-9025; or email at Samantha.Rhoderick@usda.gov.

SUPPLEMENTARY INFORMATION: Section 203(c) of the Agricultural Marketing Act of 1946, as amended (7 U.S.C. 1621 et seq.), directs and authorizes the Secretary of Agriculture “to develop and improve standards of quality, condition, quantity, grade, and packaging and recommend and demonstrate such standards in order to encourage uniformity and consistency in commercial practices.” AMS is committed to carrying out this authority in a manner that facilitates the marketing of agricultural commodities. While the Poultry Standards do not appear in the Code of Federal Regulations, they—along with other official Standards—are maintained by USDA and can be found at https://www.ams.usda.gov/grades-standards. Copies of official Poultry Standards are also available upon request. To propose changes to the Poultry Standards, AMS utilizes the procedures published in the August 13, 1997, Federal Register (62 FR 43439) and in 7 CFR part 36.

Background

Official USDA grade Standards and associated voluntary, fee-for-service grading programs are authorized under the Agricultural Marketing Act of 1946, as amended (7 U.S.C. 1621 et seq.). The primary purpose of USDA grade Standards, including the Poultry Standards, is to divide the population of a commodity into uniform groups (of similar quality, value, etc.) to facilitate marketing. In concert, the Federal voluntary, fee-for-service grading programs are designed to provide an independent, objective determination as to whether a given product is in conformance with the applicable USDA grade standard. USDA quality grades provide a simple, effective means of describing product that is easily understood by both buyers and sellers.

To ensure the Poultry Standards maintain relevance in a dynamic industry, USDA accepts recommendations for changes from interested parties at any time. The Poultry Standards were first developed in the 1930s, and periodic revisions were made to reflect industry improvements or changes in the marketplace. The current Poultry Standards were last updated in 2018, to align the definition of “roaster” class with the 2013 Food Safety Inspection Service definition. Prior to that, the last substantial revisions occurred in 1998 when tolerances for the number and length of feathers were established and Standards were implemented for additional boneless, boneless skinless, and size reduced poultry parts.

The poultry industry has continued to evolve by incorporating camera quality assessment systems, robotics, artificial intelligence, machine learning, and other technological advancements. These tools will continue to impact how products are sorted for quality allowing much greater efficiency with decreased reliance on manual labor performed by authorized plant graders. AMS strives to ensure that the Poultry Standards keep pace with modernization and continue to serve the needs of industry and consumers.

Market trends have also shifted, and consumers are increasingly aware of industry marketing claims. Easy-to-prepare poultry products that require minimal preparation steps have grown increasingly popular. The overwhelming majority of poultry marketing is for further processed ready-to-eat items, as well as ready-to-cook poultry parts (bone-in, skin-on or boneless skinless), instead of whole carcasses. Therefore, AMS is inviting comments for revisions to the Poultry Standards that will better serve the needs of modern consumers.

According to the National Chicken Council, the average U.S. broiler weight at 47 days of age has increased about 30% from the year 2000 to the year 2023. New poultry myopathies such as woody breast, white striping, spaghetti breast, and deep pectoral myopathy have presented additional quality assessment challenges. Multiple studies have provided possible industry solutions for detection and segregation of affected product. Generally, AMS allows time for industry and academia to develop solutions to address such changes before implementing a revision to the Standards. Currently in addition to the requests mentioned above, AMS is also requesting input from industry whether a revision to the Poultry Standards to address these myopathies is necessary.

Request for Comments

AMS is soliciting comments including data, recommendations, and other information from stakeholders about potential changes to the U.S. Classes, Standards, and Grades for Poultry. Comments may include any current and/or ongoing research or industry practice that has relevance to this Poultry Standard. AMS also invites comments about how those changes would be implemented in the Federal voluntary, fee-for-service grading programs.

After reviewing the recommendations and information submitted in response to this notice, AMS will consult with other relevant government agencies, academia, industry, and stakeholders, to determine how updates to the Poultry Standards should be made. When updates are made, a draft of the updated Poultry Standards with all changes will be published in the Federal Register for an additional comment period. Any comments not directly related to updates or recommendations that are not accompanied by data and other information will not be considered.

AMS invites responses to the following questions:

1. How could the Poultry Standards be updated to better align with current and future advances in technology?

2. Are the current Poultry Standards and supplemental resources easily interpreted by industry employees, particularly the authorized plant graders actively applying them in facilities? If not, what updates to the Poultry Standards, additional resources, or training material are recommended?

3. Are there any defect categories that have become irrelevant or new defect categories that should be added?

4. How could the tolerances for existing defect categories be updated to better suit the needs of stakeholders?

5. Is there information in general which should be added to or removed from the current Poultry Standards?

6. How could the Poultry Standards be updated to reflect current marketing of Poultry? Could U.S. Grade B or U.S. Grade C be updated to be more useful in the marketing of poultry products, similar to how USDA Choice or USDA Select are useful marketing terms for red meat commodities?

7. How could the Poultry Standards be updated to be more useful to smaller poultry operations?

8. How could the Poultry Standards be updated to be more useful to volume food buyers and those engaged in institutional purchases?

9. How could the Poultry Standards be updated to be more meaningful to end consumers?

10. High quality poultry products are procured through the Federal Nutrition Assistance and Child Nutrition Programs using the Poultry Standards. How could the Poultry Standards be updated to improve the effectiveness of the purchase program in regard to value and quality?

11. Are there any other recommendations, suggestions, or ideas that would be relevant for AMS to consider?

Melissa Bailey,
Associate Administrator, Agricultural Marketing Service.

[FR Doc. 2025-01029 Filed 1-15-25; 8:45 am]

BILLING CODE P